DEPARTMENT OF TRANSPORTATION

Office of the Secretary

Notice of Applications for Certificates of Public Convenience and Necessity and Foreign Air Carrier Permits Filed under Subpart B (Formerly Subpart Q) During the Week Ending April 17, 2010

The following Applications for Certificates of Public Convenience and Necessity and Foreign Air Carrier Permits were filed under Subpart B (formerly Subpart Q) of the Department of Transportation's Procedural Regulations (See 14 CFR 301.201 et seq.). The due date for Answers, Conforming Applications, or Motions To Modify Scope are set forth below for each application. Following the Answer period DOT may process the application by expedited procedures. Such procedures may consist of the adoption of a show-cause order, a tentative order, or in appropriate cases a final order without further proceedings.

Docket Number: DOT-OST-2010-0093.

Date Filed: April 13, 2010.

Due Date for Answers, Conforming Applications, or Motion To Modify Scope: May 4, 2010.

Description: Application of Open Joint Stock Company Transaero Airlines (“Transaero”) requesting an foreign air carrier permit and exemption authorizing Transaero to provide: (i) Scheduled foreign air transportation of persons, property and mail between Moscow, Russian Federation, on the one hand, and New York, New York and Miami, Florida, on the other hand; and (ii) charter foreign air transportation of persons, property and mail between a point(s) in the Russian Federation, on the one hand, and a point(s) in the United States, on the other hand, and other charter flights as permitted.

Docket Number: DOT-OST-2005-21533.

Date Filed: April 12, 2010.

Due Date for Answers, Conforming Applications, or Motion To Modify Scope: May 3, 2010.

Description: Application of Friendship Airways, Inc., d/b/a Yellow Air Taxi reapplying for issuance of commuter air authority to enable Yellow Air Taxi to engage in interstate and foreign scheduled air transportation operations utilizing small aircraft.

Renee V. Wright,
Program Manager, Docket Operations, Federal Register Liaison.

[FR Doc. 2010-10094 Filed 4-29-10; 8:45 am]

BILLING CODE 4910-9X-P